DEPARTMENT OF ENERGY

Federal Energy Regulatory Commission

Combined Notice of Filings #2

Take notice that the Commission received the following electric corporate filings:

Docket Numbers: EC11-124-000.

Applicants: Consolidated Edison Company of New York, Inc.

Description: Application of Consolidated Edison Company of New York, Inc. for an order pursuant to Section 203 of the Federal Power Act authorizing the purchase of short-term debt of Orange and Rockland Utilities, Inc.

Filed Date: 09/30/2011.

Accession Number: 20110930-5301.

Comment Date: 5 p.m. Eastern Time on Friday, October 21, 2011.

Take notice that the Commission received the following electric rate filings:

Docket Numbers: ER11-4048-001.

Applicants: Gratiot County Wind LLC.

Description: Gratiot County Wind LLC submits tariff filing per 35: Compliance Filing of Shared Facilities Agreement to be effective 9/28/2011.

Filed Date: 10/03/2011.

Accession Number: 20111003-5104.

Comment Date: 5 p.m. Eastern Time on Monday, October 24, 2011.

Docket Numbers: ER11-4049-001.

Applicants: Gratiot County Wind II LLC.

Description: Gratiot County Wind II LLC submits tariff filing per 35: Compliance Filing of Shared Facilities Agreement to be effective 9/28/2011.

Filed Date: 10/03/2011.

Accession Number: 20111003-5105.

Comment Date: 5 p.m. Eastern Time on Monday, October 24, 2011.

Docket Numbers: ER12-1-000.

Applicants: Energy Exchange Direct, LLC.

Description: Energy Exchange Direct, LLC submits tariff filing per 35.1: Energy Exchange Direct, LLC Electric Tariff Original Volume No 1 to be effective 10/1/2011.

Filed Date: 10/03/2011.

Accession Number: 20111003-5003.

Comment Date: 5 p.m. Eastern Time on Monday, October 24, 2011.

Docket Numbers: ER12-2-000.

Applicants: Major Lending, LLC.

Description: Major Lending, LLC submits tariff filing per 35.1: Major Lending, LLC Electric Tariff Original Volume No 1 to be effective 10/1/2011.

Filed Date: 10/03/2011.

Accession Number: 20111003-5004.

Comment Date: 5 p.m. Eastern Time on Monday, October 24, 2011.

Docket Numbers: ER12-3-000.

Applicants: PJM Interconnection, L.L.C.

Description: PJM Interconnection, L.L.C. submits tariff filing per 35.13(a)(2)(iii: Queue No. W3-145; Original Service Agreement No. 3064 to be effective 9/1/2011.

Filed Date: 10/03/2011.

Accession Number: 20111003-5063.

Comment Date: 5 p.m. Eastern Time on Monday, October 24, 2011.

Docket Numbers: ER12-4-000.

Applicants: PJM Interconnection, L.L.C.

Description: PJM Interconnection, L.L.C. submits tariff filing per 35.13(a)(2)(iii: Queue No. W3-146; Original Service Agreement No. 3065 to be effective 9/1/2011.

Filed Date: 10/03/2011.

Accession Number: 20111003-5081.

Comment Date: 5 p.m. Eastern Time on Monday, October 24, 2011.

Docket Numbers: ER12-5-000.

Applicants: Southwest Power Pool, Inc.

Description: Southwest Power Pool, Inc. submits tariff filing per 35.13(a)(2)(iii: 1154R6 Associated Electric Cooperative, Inc. NITSA NOA to be effective 9/1/2011.

Filed Date: 10/03/2011.

Accession Number: 20111003-5089.

Comment Date: 5 p.m. Eastern Time on Monday, October 24, 2011.

Docket Numbers: ER12-6-000.

Applicants: FirstEnergy Service Company, American Transmission Systems, Incorporation.

Description: Notice of Cancellation of ATSI Service Agreement No. 294 of FirstEnergy Service Company.

Filed Date: 10/03/2011.

Accession Number: 20111003-5094.

Comment Date: 5 p.m. Eastern Time on Monday, October 24, 2011.

Docket Numbers: ER12-7-000.

Applicants: ISO New England Inc., New England Power Pool Participants Committee.

Description: ISO New England Inc. submits tariff filing per 35.13(a)(2)(iii: Modify Tariff True-Up Provisions to be effective 1/1/2012.

Filed Date: 10/03/2011.

Accession Number: 20111003-5096.

Comment Date: 5 p.m. Eastern Time on Monday, October 24, 2011.

Docket Numbers: ER12-8-000.

Applicants: Invenergy Wind Development Michigan LLC.

Description: Invenergy Wind Development Michigan LLC submits tariff filing per 35.1: Compliance Filing of Facilities Use Agreement to be effective 9/27/2011.

Filed Date: 10/03/2011.

Accession Number: 20111003-5103.

Comment Date: 5 p.m. Eastern Time on Monday, October 24, 2011.

Docket Numbers: ER12-9-000.

Applicants: Invenergy Wind Development Michigan LLC.

Description: Invenergy Wind Development Michigan LLC submits tariff filing per 35.15: Cancellation of Tariff Identifier 62 to be effective 12/31/9998.

Filed Date: 10/03/2011.

Accession Number: 20111003-5106.

Comment Date: 5 p.m. Eastern Time on Monday, October 24, 2011.

Docket Numbers: ER12-10-000.

Applicants: Energy International Power Marketing.

Description: Energy International Power Marketing submits tariff filing per 35.1: EI Baseline Tariff to be effective 9/30/2011.

Filed Date: 10/03/2011.

Accession Number: 20111003-5140.

Comment Date: 5 p.m. Eastern Time on Monday, October 24, 2011.

Take notice that the Commission received the following electric securities filings:

Docket Numbers: ES12-1-000.

Applicants: Northeast Utilities Service Company, The Connecticut Light and Power Company, Western Massachusetts Electric Company.

Description: Application of Northeast Utilities Service Company for The Connecticut Light and Power Company and WMECO Section 204 filing Form 523.

Filed Date: 10/03/2011.

Accession Number: 20111003-5107.

Comment Date: 5 p.m. Eastern Time on Monday, October 24, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2011.
Nathaniel J. Davis, Sr.,
Deputy Secretary.

[FR Doc. 2011-26122 Filed 10-7-11; 8:45 am]

BILLING CODE 6717-01-P